SMALL BUSINESS ADMINISTRATION

[Disaster Declaration #13586 and #13587]

Oklahoma Disaster Number OK-00071

AGENCY: U.S. Small Business Administration.

ACTION: Amendment 1.

SUMMARY: This is an amendment of the Presidential declaration of a major disaster for the State of Oklahoma (FEMA-4117-DR), dated 05/20/2013.

Incident: Severe Storms and Tornadoes.

Incident Period: 05/18/2013 through 05/27/2013.

Effective Date: 05/27/2013.

Physical Loan Application Deadline Date: 07/19/2013.

EIDL Loan Application Deadline Date: 02/20/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Oklahoma, dated 05/20/2013 is hereby amended to establish the incident period for this disaster as beginning 05/18/2013 and continuing through 05/27/2013.

All other information in the original declaration remains unchanged.

(Catalog of Federal Domestic Assistance Numbers 59002 and 59008)

James E. Rivera,
Associate Administrator for Disaster Assistance.

[FR Doc. 2013-13256 Filed 6-3-13; 8:45 am]

BILLING CODE 8025-01-P